DEPARTMENT OF THE INTERIOR

Fish and Wildlife Service

Receipt of an Application for an Incidental Take Permit for the Tucker Pond Low Effect Habitat Conservation Plan, Santa Cruz County, California

AGENCY: Fish and Wildlife Service, Interior.

ACTION: Notice of availability.

SUMMARY: Doug and Jennifer Ross (Applicants) have applied to the U.S. Fish and Wildlife Service (Service or “we”) for an incidental take permit pursuant to section 10(a)(1)(B) of the Endangered Species Act of 1973, as amended (Act). We are considering issuing a 10-year permit to the Applicants that would authorize take of the federally endangered Santa Cruz long-toed salamander (Ambystoma macrodactylum croceum) and the threatened California red-legged frog (Rana aurora draytonii) incidental to otherwise lawful activities associated with the construction of private residential facilities on 16.5 acres of their 99-acre property in Aptos, Santa Cruz County, California.

We are requesting comments on the permit application and on our preliminary determination that the proposed Habitat Conservation Plan (HCP) qualifies as a “low effect” HCP, eligible for a categorical exclusion under the National Environmental Policy Act (NEPA) of 1969, as amended. We explain the basis for this possible determination in a draft Environmental Action Statement (EAS) and associated Low Effect Screening Form. The Applicants' low effect HCP describes the mitigation and minimization measures they would implement, as required in Section 10(a)(2)(B) of the Act, to address the effects of the project on the Santa Cruz long-toed salamander and California red-legged frog. These measures are outlined in the SUPPLEMENTARY INFORMATION section below. The draft HCP and EAS are available for public review.

DATES: Written comments should be received on or before January 19, 2007.

ADDRESSES: Please address written comments to Diane Noda, Field Supervisor, Ventura Fish and Wildlife Office, U.S. Fish and Wildlife Service, 2493 Portola Road, Ventura, California 93003. You may also send comments by facsimile to (805) 644-3958. To obtain copies of draft documents, see “Availability of Documents” under SUPPLEMENTARY INFORMATION.

FOR FURTHER INFORMATION CONTACT: Bill McIver, Fish and Wildlife Biologist, (see ADDRESSES) telephone: (805) 644-1766 extension 234.

SUPPLEMENTARY INFORMATION:

Availability of Documents

You may obtain copies of the application, HCP, and EAS by contacting the Fish and Wildlife Biologist (see FOR FURTHER INFORMATION CONTACT). Documents will also be available for review by appointment, during normal business hours, at the Ventura Fish and Wildlife Office (see ADDRESSES) or via the Internet at: http://www.fws.gov/ventura.

Background

Section 9 of the Act and Federal regulation prohibit the “take” of fish or wildlife species listed as endangered or threatened, respectively. Take of listed fish or wildlife is defined under the Act to mean harass, harm, pursue, hunt, shoot, wound, kill, trap, capture, or collect, or to attempt to engage in any such conduct. However, the Service, under limited circumstances, may issue permits to authorize incidental take; i.e., take that is incidental to, and not the purpose of, the carrying out of an otherwise lawful activity. Regulations governing incidental take permits for threatened and endangered species are found at 50 CFR 17.32 and 17.22, respectively. The taking prohibitions of the Act do not apply to federally listed plants on private lands unless such take would violate State law. Among other criteria, issuance of such permits must not jeopardize the existence of federally listed fish, wildlife, or plants.

The Applicants own 99 acres of property (Ross Property) that includes grassland and coastal brush scrub habitats, in Aptos, California. The project site is located northeast of Highway 1 and south of Freedom Boulevard, in Aptos, Santa Cruz County, California. Typical land uses in the area surrounding the project site include several rural residences, a high school, and undeveloped oak woodland areas. The Applicants propose to construct on approximately 16.5 acres of land: A 7,500 square foot house with associated landscaping (main residence), a single-family dwelling, a 1,500 square foot caretaker house, a 2,000 square foot winemaking and agricultural equipment storage facility, a 2,000 square foot barn, septic systems, a swimming pool, a tennis court, a vineyard of approximately 5 acres, and an orchard.

The Applicants propose to implement the following measures to minimize and mitigate take of the Santa Cruz long-toed salamander and California red-legged frog: Establish (with a conservation easement) and monitor a 38.8-acre preserve for the benefit of the Santa Cruz long-toed salamander and California red-legged frog; hire a Service-approved monitor and biologist; implement a construction worker education program; ensure monitoring of all grading, clearing, and other ground disturbing activities; mark construction area boundaries; construct drift fencing around construction area; control trash accumulation and install covered trash receptacles; install screens on irrigation, electrical, and other equipment to exclude Santa Cruz long-toed salamanders; surround the swimming pool with curbs to exclude Santa Cruz long-toed salamanders; remove nonnative plants; control bullfrogs; construct signs; use best management practices; and implement other minimization measures. The conservation easement would be held by the Center for Natural Lands Management, a non-profit conservation organization located in Fallbrook, California.

The impacts from the construction activities and use of the property associated with this residential construction project are considered to be negligible to the two species as a whole because: (1) The amount of habitat being disturbed is small relative to the amount of habitat available within the Applicant's property, Santa Cruz area, and within the range of the species; (2) most of the areas that would be disturbed during construction probably support few, if any, Santa Cruz long-toed salamanders and California red-legged frogs; (3) construction activities are not expected to affect Tucker Pond, where Santa Cruz long-toed salamanders are known to occur; (4) no sheltering habitat for Santa Cruz long-toed salamanders would be removed; and (5) California red-legged frogs are not expected to be present in the dry grasslands where the project will be built.

The Service's proposed action is to issue an incidental take permit to the Applicants, who would then implement the HCP. Two alternatives to the taking of listed species under the proposed action are considered in the HCP. Under the No-Action Alternative, no permit would be issued, the proposed project would not occur, and the HCP would not be implemented. This would avoid immediate effects of construction and use of the property on the Santa Cruz long-toed salamander and California red-legged frog. However, under this alternative, the Applicants would not be able to develop their property, and conservation measures for the Santa Cruz long-toed salamander and California red-legged frog would not be implemented. A second alternative would result in a redesigned project with the relocation of the development footprint to another portion of the parcel. However, much of the property is too steep to be developed, and relocation of the footprint to the western portion of the property would result in the removal of oak woodland, which is essential sheltering habitat for the Santa Cruz long-toed salamander. The Service considers the proposed development footprint as more desirable than development elsewhere on the property because the modification of habitat for the Santa Cruz long-toed salamander and California red-legged frog would not be significant, and establishment of a conservation easement including the breeding pond and upland habitat would benefit the Santa Cruz long-toed salamander and California red-legged frog.

The Service has made a preliminary determination that the HCP qualifies as a “low effect” HCP as defined by its Habitat Conservation Planning Handbook (November 1996). Our determination that a HCP qualifies as a low-effect plan is based on the following three criteria: (1) Implementation of the plan would result in minor or negligible effects on federally listed, proposed, and candidate species and their habitats; (2) implementation of the plan would result in minor or negligible effects on other environmental values or resources; and (3) impacts of the plan, considered together with the impacts of other past, present, and reasonably foreseeable similarly situated projects would not result, over time, in cumulative effects to environmental values or resources which would be considered significant. As more fully explained in our EAS and associated Low Effect Screening Form, the Applicant's proposed HCP qualifies as a “low-effect” plan for the following reasons:

(1) Approval of the HCP would result in minor or negligible effects on the Santa Cruz long-toed salamander and California red-legged frog and their habitats. The Service does not anticipate significant direct or cumulative effects to the Santa Cruz long-toed salamander or California red-legged frog resulting from development and use of the Ross Property.

(2) Approval of the HCP would not have adverse effects on unique geographic, historic, or cultural sites, or involve unique or unknown environmental risks.

(3) Approval of the HCP would not result in any cumulative or growth inducing impacts and, therefore, would not result in significant adverse effects on public health or safety.

(4) The project does not require compliance with Executive Order 11988 (Floodplain Management), Executive Order 11990 (Protection of Wetlands), or the Fish and Wildlife Coordination Act, nor does it threaten to violate a Federal, State, local, or tribal law or requirement imposed for the protection of the environment.

(5) Approval of the HCP would not establish a precedent for future actions or represent a decision in principle about future actions with potentially significant environmental effects.

The Service therefore has made a preliminary determination that approval of the HCP qualifies as a categorical exclusion under the NEPA, as provided by the Department of the Interior Manual (516 DM 2, Appendix 1 and 516 DM 6, Appendix 1). Based upon this preliminary determination, we do not intend to prepare further NEPA documentation. The Service will consider public comments in making its final determination on whether to prepare such additional documentation.

We will evaluate the permit application, the HCP, and comments submitted thereon to determine whether the application meets the requirements of section 10(a) of the Act. If the requirements are met, the Service will issue a permit to the Applicants.

Public Review and Comment

If you wish to comment on the permit application, draft Environmental Action Statement or the proposed HCP, you may submit your comments to the address listed in the ADDRESSES section of this document. Our practice is to make comments, including names, home addresses, etc., of respondents available for public review. Individual respondents may request that we withhold their names and/or home addresses, etc., but if you wish us to consider withholding this information you must state this prominently at the beginning of your comments. In addition, you must provide a rationale demonstrating and documenting that disclosure would constitute a clearly unwarranted invasion of privacy. In the absence of exceptional, documented circumstances, this information will be released. All submissions from organizations or businesses, and from individuals identifying themselves as representatives or officials of organizations or businesses, are available for public inspection in their entirety.

The Service provides this notice pursuant to section 10(c) of the Act and pursuant to implementing regulations for NEPA (40 CFR 1506.6).

Dated: December 13, 2006.
Diane K. Noda,
Field Supervisor, Ventura Fish and Wildlife Office, Ventura, California.

[FR Doc. E6-21714 Filed 12-19-06; 8:45 am]

BILLING CODE 4310-55-P